DEPARTMENT OF JUSTICE

[OMB Number 1105-NEW]

Agency Information Collection Activities; Proposed Collection; Comments Requested: Jurors Information Form

ACTION: 30-day Notice of Information Collection Under Review.

The Department of Justice, U.S. Marshals Service will be submitting the following information collection request to the Office of Management and Budget (OMB) for review and clearance in accordance with established review procedures of the Paperwork Reduction Act of 1995. The proposed information collection is published to obtain comments from the public and affected agencies. This proposed information collection was previously published in the Federal Register Volume 77, Number 80, pages 24739-24740, on April 25, 2012, allowing for a 60 day comment period.

The purpose of this notice to allow for an additional 30 days for public comment until August 1, 2012. This process is conducted in accordance with 5 CFR 1320.10.

All comments and suggestions, or questions regarding additional information, to include obtaining a copy of the proposed information collection instrument with instructions, should be directed to Nicole Feuerstein, U.S. Marshals Service, CS-3, 10th Fl., 2604 Jefferson Davis Hwy, Alexandria, VA 22301.

Written comments and suggestions from the public and affected agencies concerning the proposed collection of information are encouraged. Comments should address one or more of the following four points:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including the use of automated, electronic, mechanical, or other technological collection techniques of other forms of information technology, e.g., permitting electronic submission of responses.

Overview of this information collection:

1. Type of information collection: New collection.

2. The title of the form/collection: Sequestered Juror Information Form.

3. The agency form number, if any, and the applicable component of the department sponsoring the collection: Form Number: USM-523A. U.S. Marshals Service.

4. Affected public who will be asked or required to respond, as well as a brief abstract: Primary: Households/Individuals. Form USM-523A Sequestered Juror Information Form. The authority for collecting the information on this form is 28 U.S.C. 509, 510 and 561 et seq. The United States Marshals Service is responsible for ensuring the security of federal courthouses, courtrooms, and federal jurist. This information assists Marshals Service personnel in the planning of, and response to, potential security needs of the court and jurors during the course of proceedings.

5. An estimate of the total number of respondents and the amount of time estimated for an average respondent to respond: It is estimated that 14 respondents will complete a 4 minute form.

6. An estimate of the total public burden (in hours) associated with this collection: There is an estimated 1 annual total burden hour associated with this collection.

If additional information is required contact: Jerri Murray, Department Clearance Officer, United States Department of Justice, Justice Management Division, Policy and Planning Staff, Justice Management Division, Two Constitution Square 145 N Street NE., Room 2E-508, Washington, DC 20530.

Dated: June 26, 2012.
Jerri Murray
Department Clearance Officer, PRA, United States Department of Justice.

[FR Doc. 2012-16086 Filed 6-29-12; 8:45 am]

BILLING CODE 4410-04-P